DEPARTMENT OF ENERGY

Federal Energy Regulatory Commission

Combined Notice of Filings # 1

February 5, 2007.

Take notice that the Commission received the following electric corporate filings:

Docket Numbers: EC07-53-000.

Applicants: Boston Generating, LLC; Mystic I, LLC; Mystic Development, LLC; Fore River Development, LLC; EGB Holdings, LLC.

Description: Boston Generating, LLC, et al., submit an application for order amending blanket authorization for certain future transfers and acquisitions under Section 203 of the FPA.

Filed Date: 01/26/2007.

Accession Number: 20070131-0086.

Comment Date: 5 p.m. Eastern Time on Friday, February 16, 2007.

Docket Numbers: EC07-54-000.

Applicants: Cottonwood Energy Company; Redbud Energy LP; Magnolia Energy LP.

Description: Cottonwood Energy Company LP, et al., submit an Application for authorization pursuant to Section 203 of the FPA.

Filed Date: 01/26/2007.

Accession Number: 20070131-0094.

Comment Date: 5 p.m. Eastern Time on Friday, February 16, 2007.

Docket Numbers: EC07-55-000.

Applicants: HLM Energy, Inc.; Juice Energy, Inc.

Description: HLM Energy, LLC and Juice Energy, Inc. submits an application for authorization for disposition of jurisdictional facilities.

Filed Date: 01/29/2007.

Accession Number: 20070131-0092.

Comment Date: 5 p.m. Eastern Time on Tuesday, February 20, 2007.

Docket Numbers: EC07-56-000.

Applicants: PSEG Lawrenceburg Energy Company LLC; American Electric Power Service Corp; AEP Generating Company.

Description: PSEG Lawrenceburg Energy Co, LLC, et al., submit a joint application seeking authorization for the sale of jurisdictional facilities pursuant to Section 203 of the FPA.

Filed Date: 01/29/2007.

Accession Number: 20070131-0041.

Comment Date: 5 p.m. Eastern Time on Tuesday, February 20, 2007.

Take notice that the Commission received the following exempt wholesale generator filings:

Docket Numbers: EG07-36-000.

Applicants: North Wind Cooperative.

Description: North Wind Cooperative submits a Notice of Self-Certification of Exempt Wholesale Generator Status for a wind project in Southwestern Minnesota.

Filed Date: 01/31/2007.

Accession Number: 20070202-0239.

Comment Date: 5 p.m. Eastern Time on Wednesday, February 21, 2007.

Docket Numbers: EG07-37-000.

Applicants: Besicorp-Empire Power Company, LLC.

Description: Besicorp-Empire Power Company, LLC Exempt Wholesale Generator Notice of Self-Certification.

Filed Date: 01/31/2007.

Accession Number: 20070131-5085.

Comment Date: 5 p.m. Eastern Time on Wednesday, February 21, 2007.

Take notice that the Commission received the following electric rate filings:

Docket Numbers: ER91-569-036.

Applicants: Entergy Services Inc.

Description: Entergy Arkansas, Inc and Entergy Gulf States, Inc et al. submit non-material change in status pursuant to the requirements of Order 652.

Filed Date: 01/26/2007.

Accession Number: 20070129-0118.

Comment Date: 5 p.m. Eastern Time on Friday, February 16, 2007.

Docket Numbers: ER96-2350-026; ER98-4421-006; ER99-791-004; ER99-806-003; ER99-3677-005; ER01-570-006.

Applicants: Consumers Energy Company.

Description: Consumers Energy Company et al. submits their notice of non-material change in status related to the sale of Consumers' 49% ownership interest in the Midland Cogeneration Venture LP.

Filed Date: 01/30/2007.

Accession Number: 20070201-0255.

Comment Date: 5 p.m. Eastern Time on Tuesday, February 20, 2007.

Docket Numbers: ER99-4102-003.

Applicants: Milford Power, LLC.

Description: Milford Power, LLC submits revisions to its market-based rate authority, FERC Electric Tariff, Original Volume 1 to include the reporting requirements for changes in status etc., Order 652.

Filed Date: 01/31/2007.

Accession Number: 20070202-0240.

Comment Date: 5 p.m. Eastern Time on Wednesday, February 21, 2007.

Docket Numbers: ER99-4160-011; ER00-1895-008; ER01-3109-008.

Applicants: Dynegy Power Marketing, Inc.; Dynegy Midwest Generation, Inc.; Renaissance Power, LLC.

Description: Dynegy Power Marketing, Inc. et al., submit a notice of non-material change in status.

Filed Date: 01/30/2007.

Accession Number: 20070130-5064.

Comment Date: 5 p.m. Eastern Time on Tuesday, February 20, 2007.

Docket Numbers: ER00-3240-008; ER01-1633-005; ER96-780-016; ER03-1383-008.

Applicants: Southern Company Services, Inc.

Description: Southern Company Services, Inc., et al., submit a Change in Status Compliance Report.

Filed Date: 01/31/2007.

Accession Number: 20070131-5009.

Comment Date: 5 p.m. Eastern Time on Wednesday, February 21, 2007.

Docket Numbers: ER00-3696-007.

Applicants: Griffith Energy LLC.

Description: Griffith Energy LLC submits an updated market power analysis pursuant to Section 205 of the FPA.

Filed Date: 01/31/2007.

Accession Number: 20070202-0241.

Comment Date: 5 p.m. Eastern Time on Wednesday, February 21, 2007.

Docket Numbers: ER01-1114-007; ER95-1528-014; ER96-1088-041; ER01-2659-008; ER02-2199-006; ER03-54-006; ER03-55-006; ER03-56-006; ER96-1858-019; ER03-674-008; ER99-1936-007; ER97-2758-014; ER05-89-007.

Applicants: Wisconsin Public Service Corporation; WPS Power Development, LLC; Combined Locks Energy Center, LLC; WPS Empire State, Inc.; WPS Beaver Falls Generation, LLC; WPS Niagara Generation, LLC; WPS Syracuse Generation, LLC; Mid-American Power, LLC; Quest Energy, LLC; WPS Canada Generation, Inc.; WPS New England Generation, Inc.; WPS Westwood Generation, LLC; Advantage Energy, Inc.; Upper Peninsula Power Company.

Description: WPS Resources Corporation et al., submit its notice of change in status as set forth in the Commissioner's Order 652.

Filed Date: 01/31/2007.

Accession Number: 20070202-0234.

Comment Date: 5 p.m. Eastern Time on Wednesday, February 21, 2007.

Docket Numbers: ER02-2263-007.

Applicants: Southern California Edison Company.

Description: Southern California Edison Co submits their report of changes in status, pursuant to Order 652.

Filed Date: 01/31/2007.

Accession Number: 20070202-0253.

Comment Date: 5 p.m. Eastern Time on Wednesday, February 21, 2007.

Docket Numbers: ER02-2339-002.

Applicants: Citadel Energy Products LLC.

Description: Citadel Energy Products LLC submits an amendment to its 7/28/05 updated market power analysis filing.

Filed Date: 01/26/2007.

Accession Number: 20070130-0077.

Comment Date: 5 p.m. Eastern Time on Friday, February 16, 2007.

Docket Numbers: ER04-222-004.

Applicants: CPV Milford, LLC.

Description: CPV Milford LLC submits revisions to its market-based FERC Electric Tariff, Original Volume 1 to include the reporting requirements for change in status in its market-based tariff.

Filed Date: 01/31/2007.

Accession Number: 20070202-0235.

Comment Date: 5 p.m. Eastern Time on Wednesday, February 21, 2007.

Docket Numbers: ER04-691-082; EL04-104-069.

Applicants: Midwest Independent Transmission System Operator, Inc.

Description: Midwest Independent Transmission System Operator, Inc submits a compliance filing pursuant to FERC's 11/1/06 order.

Filed Date: 01/30/2007.

Accession Number: 20070202-0238.

Comment Date: 5 p.m. Eastern Time on Tuesday, February 20, 2007.

Docket Numbers: ER05-463-003.

Applicants: Mendota Hills, LLC.

Description: Mendota Hills, LLC notification of non-material change in status.

Filed Date: 01/29/2007.

Accession Number: 20070129-5051.

Comment Date: 5 p.m. Eastern Time on Tuesday, February 20, 2007.

Docket Numbers: ER05-1232-003.

Applicants: JP Morgan Ventures Energy Corporation.

Description: JP Morgan Ventures Energy Corp submits a compliance filing to make technical corrections to its Market Based Rate Schedule FERC 1.

Filed Date: 01/30/2007.

Accession Number: 20070131-0022.

Comment Date: 5 p.m. Eastern Time on Tuesday, February 20, 2007.

Docket Numbers: ER06-30-003.

Applicants: Midwest Independent Transmission System Operator, Inc.

Description: Midwest Independent Transmission System Operator, Inc., submits its Large Generator Interconnection Agreement among itself, Union Electric Company and Central Illinois Public Service Co.

Filed Date: 01/29/2007.

Accession Number: 20070131-0015.

Comment Date: 5 p.m. Eastern Time on Tuesday, February 20, 2007.

Docket Numbers: ER07-142-001.

Applicants: California Independent System Operator Corporation.

Description: California Independent System Operator Corporation submits a compliance filing pursuant to the Commission's 12/29/06 order.

Filed Date: 01/29/2007.

Accession Number: 20070131-0119.

Comment Date: 5 p.m. Eastern Time on Tuesday, February 20, 2007.

Docket Numbers: ER07-198-002.

Applicants: Highland Energy LLC.

Description: Highland Energy LLC submits First Revised Sheet 1-2 to FERC Electric Tariff, Original Volume 1 pursuant to the Commission's 12/4/06 request.

Filed Date: 01/30/2007.

Accession Number: 20070202-0267.

Comment Date: 5 p.m. Eastern Time on Tuesday, February 20, 2007.

Docket Numbers: ER07-233-002.

Applicants: Occidental Power Services, Inc.

Description: Occidental Power Services, Inc submits an amendment to its 11/17/06 Market-Based Rate Schedule 1 Filing.

Filed Date: 01/29/2007.

Accession Number: 20070131-0118.

Comment Date: 5 p.m. Eastern Time on Friday, February 09, 2007.

Docket Numbers: ER07-472-000; ER99-2342-010.

Applicants: Tampa Electric Company.

Description: Tampa Electric Company submits a revised refund report in compliance with FERC's 2/28/06 Order and a rate schedule FERC No. 85.

Filed Date: 01/29/2007.

Accession Number: 20070131-0013.

Comment Date: 5 p.m. Eastern Time on Tuesday, February 20, 2007.

Docket Numbers: ER07-473-000.

Applicants: Tampa Electric Company.

Description: Tampa Electric Company submits cost-based rate schedule, for sale of electric energy, and proposes that Rate Schedule 86, be accepted as effective on 12/30/06 and canceled on 12/31/06.

Filed Date: 01/29/2007.

Accession Number: 20070131-0014.

Comment Date: 5 p.m. Eastern Time on Tuesday, February 20, 2007.

Docket Numbers: ER07-479-000.

Applicants: Arizona Public Service Company.

Description: Arizona Public Service Co submits an executed Network Integration Transmission Service Agreement with Arizona Public Service Co Marketing & Trading.

Filed Date: 01/30/2007.

Accession Number: 20070131-0085.

Comment Date: 5 p.m. Eastern Time on Tuesday, February 20, 2007.

Docket Numbers: ER07-481-000.

Applicants: E.ON U.S., LLC.

Description: Louisville Gas and Electric Co and Kentucky Utilities Co submits an unexecuted interconnection agreement with Duke Energy Shared Services, Inc.

Filed Date: 01/30/2007.

Accession Number: 20070131-0027.

Comment Date: 5 p.m. Eastern Time on Tuesday, February 20, 2007.

Docket Numbers: ER07-482-000.

Applicants: Xcel Energy Services Inc.

Description: Xcel Energy Services Inc., on behalf of the NSP Companies submits a notice of termination of the Network Integration Transmission Service Agreement etc with GEN~SYS Energy.

Filed Date: 01/30/2007.

Accession Number: 20070131-0088.

Comment Date: 5 p.m. Eastern Time on Tuesday, February 20, 2007.

Docket Numbers: ER07-483-000.

Applicants: Idaho Power Company.

Description: Idaho Power Co submits a notice of cancellation of Service Agreement with Idaho Power Co-Power Supply (Weiser Loads), Service Agreement, FERC SA 158.

Filed Date: 01/30/2007.

Accession Number: 20070131-0087.

Comment Date: 5 p.m. Eastern Time on Tuesday, February 20, 2007.

Docket Numbers: ER07-484-000.

Applicants: Idaho Power Company.

Description: Idaho Power Co submits Fourth Revised Service Agreement 155 Superseding Third Revised Service Agreement 155 under FERC Electric Tariff, First Revised Volume 5 with Bonneville Power Administration.

Filed Date: 01/30/2007.

Accession Number: 20070131-0090.

Comment Date: 5 p.m. Eastern Time on Tuesday, February 20, 2007.

Docket Numbers: ER07-485-000.

Applicants: Southern Company Services, Inc.

Description: Southern Company Services Inc, agent for Alabama power Company et al. submits the Filing of Transmission Service Agreement between Southern Companies and Constellation Energy Group Inc.

Filed Date: 01/31/2007.

Accession Number: 20070201-0213.

Comment Date: 5 p.m. Eastern Time on Wednesday, February 21, 2007.

Docket Numbers: ER07-486-000.

Applicants: Saguaro Power Company, a Ltd. Partnership.

Description: Saguaro Power Company submits a request for market-based rate authority and associated waivers and authorizations.

Filed Date: 01/31/2007.

Accession Number: 20070201-0212.

Comment Date: 5 p.m. Eastern Time on Wednesday, February 21, 2007.

Docket Numbers: ER07-487-000.

Applicants: American Electric Power Service Corporation.

Description: American Electric Power Service Corporation, as agent for Indiana and Michigan Power Company submits an interconnection and local delivery service agreement dated 1/24/07.

Filed Date: 01/31/2007.

Accession Number: 20070201-0252.

Comment Date: 5 p.m. Eastern Time on Wednesday, February 21, 2007.

Docket Numbers: ER07-489-000.

Applicants: Arizona Public Service Company.

Description: Arizona Public Service Company submits an executed EEI Master Power Purchase and Sale Agreement under its FERC Electric Tariff, Volume 5.

Filed Date: 01/31/2007.

Accession Number: 20070201-0253.

Comment Date: 5 p.m. Eastern Time on Wednesday, February 21, 2007.

Docket Numbers: ER07-490-000.

Applicants: ISO New England Inc.

Description: ISO New England Inc. submits an informational report on correction of the Day-Ahead Energy Market results for the 1/18/07 Operating Day.

Filed Date: 01/26/2007.

Accession Number: 20070201-0254.

Comment Date: 5 p.m. Eastern Time on Friday, February 16, 2007.

Docket Numbers: ER07-491-000.

Applicants: Acacia Energy, Inc.

Description: Acacia Energy, Inc. submits a petition for acceptance of initial tariff, waivers and blanket authority of Acacia Energy, Inc pursuant to Section 205 of the Federal Power Act.

Filed Date: 01/31/2007.

Accession Number: 20070202-0226.

Comment Date: 5 p.m. Eastern Time on Wednesday, February 21, 2007.

Docket Numbers: ER07-494-000.

Applicants: Alabama Power Company Services, Inc.

Description: Southern Company Services, Inc agent for Alabama Power Company, Georgia Power Company et al. submits Original Sheet 142A.053 et al. pursuant to FERC's Order 2006-B.

Filed Date: 02/01/2007.

Accession Number: 20070202-0265.

Comment Date: 5 p.m. Eastern Time on Thursday, February 22, 2007.

Docket Numbers: ER07-495-000.

Applicants: E.ON U.S. LLC.

Description: E.ON U.S. LLC et al. submits a notice of termination of KU Rate Schedule 202 w/ PSI Energy Inc pursuant to Sections 35.15 and 131.53 of FERC's Regulations.

Filed Date: 02/01/2007.

Accession Number: 20070202-0264.

Comment Date: 5 p.m. Eastern Time on Thursday, February 22, 2007.

Docket Numbers: ER07-496-000.

Applicants: Alcoa Power Marketing, Inc.

Description: Alcoa Power Marketing LLC submits a notice of succession to notify FERC that as a result of a conversation from a corporation to limited company and resulting name change APM LLC adopts Alcoa Power Marketing Inc. etc.

Filed Date: 02/01/2007.

Accession Number: 20070202-0263.

Comment Date: 5 p.m. Eastern Time on Thursday, February 22, 2007.

Take notice that the Commission received the following electric securities filings:

Docket Numbers: ES07-17-000.

Applicants: AEP Generating Company.

Description: AEP Generating Co submits an Application under Section 204 of the Federal Power Act for Authorization To Issue Securities.

Filed Date: 01/26/2007.

Accession Number: 20070126-5004.

Comment Date: 5 p.m. Eastern Time on Friday, February 16, 2007.

Docket Numbers: ES07-18-000.

Applicants: Entergy New Orleans, Inc.

Description: Entergy New Orleans, Inc. submits an application to Issue Securities Pursuant to Section 204(a).

Filed Date: 01/30/2007.

Accession Number: 20070130-5043.

Comment Date: 5 p.m. Eastern Time on Tuesday, February 20, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E7-2279 Filed 2-9-07; 8:45 am]

BILLING CODE 6717-01-P